DEPARTMENT OF THE INTERIOR

National Park Service

[NPS-WASO-NAGPRA-NPS0035190; PPWOCRADN0-PCU00RP14.R50000]

Notice of Intent to Repatriate Cultural Items: Ralph Foster Museum, College of the Ozarks, Point Lookout, MO

AGENCY: National Park Service, Interior.

ACTION: Notice.

SUMMARY: In accordance with the Native American Graves Protection and Repatriation Act (NAGPRA), the Ralph Foster Museum intends to repatriate certain cultural items that meet the definition of objects of cultural patrimony and that have a cultural affiliation with the Indian Tribes or Native Hawaiian organizations in this notice. The cultural items were removed from the State of Tennessee.

DATES: Repatriation of the cultural items in this notice may occur on or after March 1, 2023.

ADDRESSES: Thomas A. Debo, The Ralph Foster Museum, 237 Christian Court, Point Lookout, MO 65726, telephone (417) 690-2602, email debo@cofo.edu.

SUPPLEMENTARY INFORMATION: This notice is published as part of the National Park Service's administrative responsibilities under NAGPRA. The determinations in this notice are the sole responsibility of the Ralph Foster Museum. The National Park Service is not responsible for the determinations in this notice. Additional information on the determinations in this notice, including the results of consultation, can be found in the summary or related records held by the Ralph Foster Museum.

Description

In the 1950s or early 1960s, three cultural items were removed from Hardeman, Fayette, or Shelby County, TN. Two of the items have “Lucy Hatchie, Tennessee” written on their undersides, giving the impression that they were removed from somewhere along the Loosahatchie River, which runs through Hardeman, Fayette, and Shelby Counties. The third item has “Millington, Tennessee” written on its underside, giving the impression that it was removed from Millington in Shelby County, TN. It is believed that Ralph Foster donated these three items as they are similar to other items he donated at the time. The three objects of cultural patrimony are one pottery possum effigy bowl, one pottery stirrup bottle, and one pottery turtle effigy.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: geographical and historical.

Determinations

Pursuant to NAGPRA and its implementing regulations, and after consultation with the appropriate Indian Tribes and Native Hawaiian organizations, the Ralph Foster Museum has determined that:

• The three cultural items described above have ongoing historical, traditional, or cultural importance central to the Native American group or culture itself, rather than property owned by an individual.

• There is a relationship of shared group identity that can be reasonably traced between the cultural items and The Chickasaw Nation.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 1, 2023. If competing requests for repatriation are received, the Ralph Foster Museum must determine the most appropriate requestor prior to repatriation. Requests for joint repatriation of the cultural items are considered a single request and not competing requests. The Ralph Foster Museum is responsible for sending a copy of this notice to the Indian Tribe identified in this notice.

Authority: Native American Graves Protection and Repatriation Act, 25 U.S.C. 3003, and the implementing regulations, 43 CFR 10.8, 10.10, and 10.14.

Dated: January 18, 2023.
Melanie O'Brien,
Manager, National NAGPRA Program.

[FR Doc. 2023-01846 Filed 1-27-23; 8:45 am]

BILLING CODE 4312-52-P